FEDERAL COMMUNICATIONS COMMISSION

47 CFR Part 73

[DA 04-2267; MB Docket No. 04-266, RM-11005; MB Docket No. 04-267, RM-11008; MB Docket No. 04-268; RM-11009; MB Docket No. 04-269, RM-11010; MB Docket No. 04-270 RM-11012; MB Docket No. 04-271; RM-11013; MB Docket No. 04-272; RM-11014; MB Docket No. 04-273, RM-11015; MB Docket No. 04-274; RM-11016; MB Docket No. 04-275; RM-11017; MB Docket No. 04-276; RM-11033; MB Docket No. 04-277; RM-11034; MB Docket No. 04-278; RM-11035; MB Docket No. 04-279; RM-11036; MB Docket No. 04-280; RM-11037]

Radio Broadcasting Services; Coalinga, CA; Coupeville, WA; Harrisonburg, LA; Mecca, CA; Mooreland, OK; Randsburg, CA; Port Isabel, TX; Richland Springs, TX; Ringwood, OK; Rosepine, LA; San Joaquin, CA; Taos, NM; Taos Pueblo, NM, Wasco, CA; Waynoka, OK

AGENCY: Federal Communications Commission.

ACTION: Proposed rule.

SUMMARY: This document proposes 15 allotments to Coalinga, California, Coupevile, Washington, Harrisonburg, Louisiana, Mecca, California, Mooreland, Oklahoma, Randsburg, California, Port Isabel, Texas, Richland Springs, Texas, Ringwood, Oklahoma, Rosepine, Louisiana, San Joaquin, California, Taos Pueblo, New Mexico, Taos, New Mexico, Wasco, California, and Waynoka, Oklahoma. See SUPPLEMENTARY INFORMATION, infra.

DATES: Comments must be filed on or before September 16, 2004, and reply comments on or before October 1, 2004.

ADDRESSES: Federal Communications Commission, Washington, DC 20554. In addition to filing comments with the FCC, interested parties should serve the petitioner, his counsel, or consultant, as follows: Charles Crawford, 4553 Bordeaux Avenue, Dallas Texas 75205 (Petitioner for the Harrisonburg, LA; Rosepine, LA, Waynoka, OK; Richland Springs, TX; Ringwood, OK; and Mooreland, OK proposals); Dana J. Puopolo, 2134 Oak Street, Unit C, Santa Monica, California, 90405 (Petitioner for the Mecca, CA; Taos, NM; Port Isabel, TX; Randsburg, CA; Taos Pueblo, NM; and Coupeville, WA proposals); Linda A. Davidson, 2134 Oak Street, Unit C, Santa Monica, California 90405 (Petitioner for the San Joaquin, CA; and Wasco, CA proposals); and Robert Eurich, President, 105 Mountain Air, Inc., 7179 N. Van Ness, Fresno, California 93711 (Petitioner for the Coalinga, CA proposal).

SUPPLEMENTARY INFORMATION: This is a synopsis of the Commission's Notice of Proposed Rule Making, MB Docket No. 04-266; MB Docket No. 04-267; MB Docket No. 04-268; MB Docket No. 04-269; MB Docket No. 04-270; MB Docket No. 04-271; MB Docket No. 04-272; MB Docket No. 04-273; MB Docket No. 04-274; MB Docket No. 04-275, MB Docket No. 04-276; MB Docket No. 04-277; MB Docket No. 04-278; MB Docket No. 04-279; and MB Docket No. 04-280; adopted July 21, 2004, and released July 26, 2004. The full text of this Commission decision is available for inspection and copying during normal business hours in the FCC's Reference Information Center at Portals II, CY-A257, 445 Twelfth Street, SW., Washington, DC. This document may also be purchased from the Commission's duplicating contractor, Best Copy and Printing, Inc., 445 12th Street, SW., Room CY-B402, Washington, DC 20554, telephone 1-800-378-3160 or http://www.BCPIWEB.com.

The Audio Division requests comments on a petition filed by Charles Crawford proposing the allotment of Channel 232A at Harrisonburg, Louisiana, as the community's first local aural transmission service. Channel 232A can be allotted to Harrisonburg in compliance with the Commission's minimum distance separation requirements with a site restriction of 4.9 kilometers (3.0 miles) northeast to avoid short-spacings to the licensed sites of Station WEMX(FM), Channel 231C1, Kentwood, Louisiana, and Station KSMB(FM), Channel 233C, Lafayette, Louisiana. The coordinates for Channel 232A at Harrisonburg are 31-48-18 North Latitude and 91-47-26 West Longitude.

The Audio Division requests comments on a petition filed by Dana J. Puopolo proposing the allotment of Channel 274A at Mecca, California, as the community's second local FM transmission service. Channel 274A can be allotted to Mecca in compliance with the Commission's minimum distance separation requirements at city reference coordinates. The coordinates for Channel 274A at Mecca are 33-34-18 North Latitude and 116-04-35 West Longitude. Since Mecca is located within 320 kilometers (199 miles) of the U.S.-Mexican border, concurrence of the Mexican government has been requested.

The Audio Division requests comments on a petition filed by Dana J. Puopolo proposing the allotment of Channel 288A at Taos, New Mexico, as the community's fifth local FM transmission service. Channel 288A can be allotted to Taos in compliance with the Commission's minimum distance separation requirements with a site restriction of 8.3 kilometers (5.2 miles) northwest to avoid a short-spacing to the proposed allotment of Channel 287C at Des Moine, New Mexico. The coordinates for Channel 288A at Taos are 36-26-55 North Latitude and 105-39-00 West Longitude.

The Audio Division requests comments on a petition filed by Linda A Davidson proposing the allotment of Channel 299A at San Joaquin, California, as the community's second local FM transmission service. Channel 299A at can be allotted to San Joaquin in compliance with the Commission's minimum distance separation requirements with a site restriction of 2.1 kilometers (1.2 miles) west to avoid a short-spacing to the licensed site for Station KZOL(FM), Channel 300B1, North Fork, California. The coordinates for Channel 299A at San Joaquin California are 36-36-00 North Latitude and 120-12-36 West Longitude.

The Audio Division requests comments on a petition filed by Charles Crawford proposing the allotment of Channel 281A at Rosepine, Louisiana, as the community's first local aural transmission service. Channel 281A can be allotted to Rosepine in compliance with the Commission's minimum distance separation requirements with a site restriction of 5.5 kilometers (3.4 miles)west to avoid a short-spacing to the licensed site of Station KJLO-FM, Channel 281C, Monroe, Louisiana The coordinates for Channel 281A at Rosepine are 30-55-24 North Latitude and 93-20-24 West Longitude.

The Audio Division requests comments on a petition filed by Charles Crawford proposing the allotment of Channel 231C2 at Waynoka, Oklahoma, as the community's first local aural transmission service. Channel 231C2 can be allotted to Waynoka in compliance with the Commission's minimum distance separation requirements with a site restriction of 28.8 kilometers (17.9 miles) north to avoid a short-spacing to the proposed allotment site for Channel 233A, Cherokee, Oklahoma. The coordinates for Channel 231C2 at Waynoka are 36-49-25 North Latitude and 98-59-50 West Longitude.

The Audio Division requests comments on a petition filed by Linda A. Davidson proposing the allotment of Channel 224A at Wasco, California, as the community's first local FM transmission service. Channel 224A can be allotted to Wasco in compliance with the Commission's minimum distance separation requirements at city reference coordinates. The coordinates for Channel 224A at Wasco are 35-35-37 North Latitude and 119-20-35 West Longitude.

The Audio Division requests comments on a petition filed by Charles Crawford proposing the allotment of Channel 299A at Richland Springs, Texas, as potentially the community's third local FM transmission service. To accommodate the allotment, petitioner also requests the modification of the reference coordinates for vacant Channel 299A at Hamilton, Texas. Channel 299A can be allotted to Richland Springs in compliance with the Commission's minimum distance separation requirements with a site restriction of 14.7 kilometers (9.1 miles) southwest to avoid a short-spacing to the proposed allotment site for Channel 296A, Brady, Texas. The coordinates for Channel 299A at Richland Springs are 31-09-42 North Latitude and 99-02-03 West Longitude. Additionally, the modified reference coordinates (31-49-57 NL and 98-07-00 WL) for vacant Channel 299A, Hamilton, Texas, requires a site restriction of 14.3 kilometers (8.9 miles) north of the community. Since Richland Springs is located within 320 kilometers (199 miles) of the U.S.-Mexican border, concurrence of the Mexican government has been requested.

The Audio Division requests comments on a petition filed by Dana J. Puopolo proposing the allotment of Channel 288A at Port Isabel, Texas, as the community's second local FM transmission service. Channel 288A can be allotted to Port Isabel in compliance with the Commission's minimum distance separation requirements with a site restriction of 10.0 kilometers (6.3 miles) southeast of the community. The coordinates for Channel 288A at Port Isabel are North Latitude 25-59-25 and 97-09-59. Since Port Isabel is located within 320 kilometers (199 miles) of the U.S—Mexican border, concurrence of the Mexican government has been requested.

The Audio Division requests comments on a petition filed by 105 Mountain Air, Inc., proposing the allotment of Channel 265A at Coalinga, California, as the community's third local FM transmission service. Channel 265A can be allotted to Coalinga in compliance with the Commission's minimum distance separation requirements with a site restriction of 8.1 kilometers (5.1 miles) west to avoid a short-spacing to the licensed site for Station KWYE(FM), Channel 266A, Fresno, California. The coordinates for Channel 265A at Coalinga are 36-08-22 North Latitude and 120-27-00 West Longitude.

The Audio Division requests comments on a petition filed by Dana J. Puopolo proposing the allotment of Channel 271A at Randsburg, California, as the community's first local commercial FM transmission service. Channel 271A can be allotted to Randsburg in compliance with the Commission's minimum distance separation requirements at city reference coordinates. The coordinates for Channel 271A at Randsburg are 35-22-06 North Latitude and 117-39-25 West Longitude. Since Randsburg is located within 320 kilometers of the U.S.-Mexican border, concurrence of the Mexican government has been requested.

The Audio Division requests comments on a petition filed by Charles Crawford proposing the allotment of Channel 285A at Ringwood, Oklahoma, as the community's first local aural transmission service. Channel 285A can be allotted to Ringwood in compliance with the Commission's minimum distance separation requirements with a site restriction of. 10.0 kilometers (6.2 miles) northeast to avoid a short-spacing to the licensed site for Station WWLS-FM, Channel 285A, Bethany, Oklahoma. The coordinates for Channel 285A at Ringwood are North Latitude 36-26-13 and 98-09-31 West Longitude.

The Audio Division requests comments on a petition filed by Dana J. Puopolo proposing the allotment of Channel 292C3 at Taos Pueblo, New Mexico, as the community's first local aural transmission service. Channel 292C3 can be allotted to Taos Pueblo in compliance with the Commission's minimum distance separation requirements with at city reference coordinates. The coordinates for Channel 292C3 at Taos Pueblo are 36-26-19 North Latitude and 105-32-38 West Longitude.

The Audio Division requests comments on a petition filed by Charles Crawford proposing the allotment of Channel 254A at Mooreland, Oklahoma, as the community's third local FM transmission service. Channel 254A can be allotted to Mooreland in compliance with the Commission's minimum distance separation requirements with a site restriction of 13.9 kilometers (8.6 miles) northwest of the community. The coordinates for Channel 254A at Mooreland are 36-30-30 North Latitude and 99-20-00 West Longitude.

The Audio Division requests comments on a petition filed by Dana J. Puopolo proposing the allotment of Channel 266A at Coupeville, Washington, as the community's first local aural transmission service. Channel 266A can be allotted to Coupeville in compliance with the Commission's minimum distance separation requirements with a site restriction of 9.5 kilometers (5.9 miles) north to avoid a short-spacing to the licensed site for Station KPLZ-FM, Channel 268C, Seattle, Washington. The coordinates for Channel 266AA at Coupeville are 48-18-00 North Latitude and 122-42-00 West Longitude. Since Coupeville is located within 320 kilometers (200 miles) of the U.S-Canadian border, and the allotment is short-spaced to the licensed site for Channel 266C, New Westminster, British Columbia, and the allotment site for Channel 266A, River Jordan, British Columbia, concurrence of the Canadian government for this allotment has been requested as a specially negotiated, short-spaced allotment.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under California, is amended by adding Channel 265A at Coalinga; by adding Channel 274A at Mecca; by adding Randsburg, Channel 271A; by adding Channel 299A at San Joaquin; and by adding Wasco, Channel 224A.

3. Section 73.202(b), the Table of FM Allotments under Louisiana, is amended by adding Harrisonburg, Channel 232A; and by adding Rosepine, Channel 281A.

4. Section 73.202(b), the Table of FM Allotments under New Mexico, is amended by adding Channel 288A at Taos; and by adding Taos Pueblo, Channel 292C3.

5. Section 73.202(b), the Table of FM Allotments under Oklahoma, is amended by adding Channel 254A at Mooreland; by adding Ringwood, Channel 285A; and by adding Waynoka, Channel 231C2.

6. Section 73.202(b), the Table of FM Allotments under Texas, is amended by adding Channel 288A at Port Isabel; and by adding Channel 299A at Richland Springs.

7. Section 73.202(b), the Table of FM Allotments under Washington, is amended by adding Coupeville, Channel 266A.

Federal Communications Commission.
John A. Karousos,
Assistant Chief, Audio Divison, Media Bureau.

[FR Doc. 04-17674 Filed 8-2-04; 8:45 am]

BILLING CODE 6712-01-P